DEPARTMENT OF COMMERCE

International Trade Administration

[A-570-979]

Crystalline Silicon Photovoltaic Cells, Whether or Not Assembled Into Modules, From the People's Republic of China: Partial Rescission of Antidumping Duty Administrative Review

AGENCY: Enforcement and Compliance, International Trade Administration, Department of Commerce.

DATES: Applicable September 18, 2017.

FOR FURTHER INFORMATION CONTACT: Krisha Hill or Celeste Chen, AD/CVD Operations, Office IV, Enforcement and Compliance, International Trade Administration, U.S. Department of Commerce, 1401 Constitution Avenue NW., Washington, DC 20230, telephone: (202) 482-4037 or (202) 482-0890, respectively.

SUPPLEMENTARY INFORMATION:

Background

On December 7, 2012, the Department of Commerce (Department) published in the Federal Register the antidumping duty order on crystalline silicon photovoltaic cells, whether or not assembled into modules, from the People's Republic of China (PRC) (Order).¹ On December 1, 2016, the Department published a notice of opportunity to request an administrative review of the Order.² The Department received multiple timely requests for an administrative review of the Order. On February 13, 2017, in accordance with section 751(a) of Tariff Act of 1930, as amended (the Act), the Department published in the Federal Register a notice of the initiation of an administrative review of the Order.³ The administrative review was initiated with respect to 47 companies or groups of companies, and covers the period from December 1, 2015, through November 30, 2016. Requesting parties have subsequently timely withdrawn all review requests for nine companies or groups of companies for which the Department initiated a review, as discussed below.

¹ See Crystalline Silicon Photovoltaic Cells, Whether or Not Assembled Into Modules, From the People's Republic of China: Amended Final Determination of Sales at Less Than Fair Value, and Antidumping Duty Order, 77 FR 73018 (December 7, 2012).

² See Antidumping or Countervailing Duty Order, Finding, or Suspended Investigation; Opportunity To Request Administrative Review, 80 FR 86694 (December 1, 2016).

³ See Initiation of Antidumping and Countervailing Duty Administrative Reviews, 82 FR 10457 (February 13, 2017) (Initiation Notice).

Partial Rescission

Pursuant to 19 CFR 351.213(d)(1), the Department will rescind an administrative review, in whole or in part, if a party that requested the review withdraws its request within 90 days of the date of publication of the notice of initiation of the requested review. All requesting parties withdrew their respective requests for an administrative review of the nine companies or groups of companies listed in the Appendix within 90 days of the date of publication of Initiation Notice. Accordingly, the Department is rescinding this review with respect to these companies, in accordance with 19 CFR 351.213(d)(1).⁴

⁴ See Appendix. As stated in Change in Practice in NME Reviews, the Department will no longer consider the non-market economy (NME) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013). The PRC-wide entity is not subject to this administrative review because no interested party requested a review of the entity. See Initiation Notice.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(l)(i). The Department intends to issue appropriate assessment instructions directly to CBP 15 days after publication of this notice.

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the Secretary's assumption that the reimbursement of antidumping duties occurred and the subsequent assessment of double antidumping duties.

Notification Regarding Administrative Protective Orders

This notice also serves as a reminder to parties subject to administrative protective orders (APO) of their responsibility concerning the return or destruction of proprietary information disclosed under an APO in accordance with 19 CFR 351.305(a)(3), which continues to govern business proprietary information in this segment of the proceeding. Timely written notification of the return or destruction of APO materials or conversion to judicial protective order is hereby requested. Failure to comply with the regulations and terms of an APO is a violation which is subject to sanction.

This notice is issued and published in accordance with section 751(a)(1) of the Act and 19 CFR 351.213(d)(4).

Dated: August 16, 2017.
James Maeder,
Senior Director, performing the duties of Deputy Assistant Secretary for Antidumping and Countervailing Duty Operations.

Appendix

• BYD (Shangluo) Industrial Co., Ltd.

• Canadian Solar International Limited

• Canadian Solar Manufacturing (Changshu) Inc.

• Canadian Solar Manufacturing (Luoyang) Inc.

• Jinko Solar Co., Ltd.

• Jinko Solar Import and Export Co., Ltd.

• JinkoSolar International Limited

• Shanghai BYD Co., Ltd.

• Zhejiang Jinko Solar Co., Ltd.

[FR Doc. 2017-19773 Filed 9-15-17; 8:45 am]

BILLING CODE 3510-DS-P